DEPARTMENT OF DEFENSE

Defense Acquisition Regulations System

48 CFR Part 207

[Docket DARS-2022-0001]

Defense Federal Acquisition Regulation Supplement; Technical Amendment

AGENCY: Defense Acquisition Regulations System, Department of Defense (DoD).

ACTION: Final rule; technical amendment.

SUMMARY: DoD is making a needed technical amendment to update the Defense Federal Acquisition Regulation Supplement (DFARS).

DATES: Effective August 25, 2022.

FOR FURTHER INFORMATION CONTACT: Ms. Jennifer D. Johnson, Defense Acquisition Regulations System, telephone 703-717-8226.

SUPPLEMENTARY INFORMATION: This final rule amends the DFARS to add section 207.108 to provide a notice to contracting officers to see DFARS Procedures, Guidance, and Information (PGI) for additional guidance concerning places of performance.

List of Subjects in 48 CFR Part 207

Government procurement.

Jennifer D. Johnson,
Editor/Publisher, Defense Acquisition Regulations System.

Therefore, 48 CFR part 207 is amended as follows:

PART 207—ACQUISITION PLANNING

1. The authority citation for 48 CFR part 207 continues to read as follows:

Authority: 41 U.S.C. 1303 and 48 CFR chapter 1.

2. Add section 207.108 to read as follows:

207.108 Additional requirements for telecommuting.

See PGI 207.108 for additional guidance concerning places of performance.

[FR Doc. 2022-18227 Filed 8-24-22; 8:45 am]

BILLING CODE 5001-06-P